EXPORT-IMPORT BANK OF THE UNITED STATES

Sunshine Act Meetings

ACTION: Notice of a partially open meeting of the Board of Directors of the Export-Import Bank of the United States.

TIME AND PLACE: Tuesday, July 9, 2013 at 9:30 a.m. The meeting will be held at Ex-Im Bank in Room 321, 811 Vermont Avenue NW., Washington, DC 20571.

OPEN AGENDA ITEMS: Item No. 1: 2013 Review of the Content Policy.

PUBLIC PARTICIPATION: The meeting will be open to public observation for Item No. 1 only.

FURTHER INFORMATION: Members of the public who wish to attend the meeting should call Joyce Stone, Office of the Secretariat, 811 Vermont Avenue NW., Washington, DC 20571 (202) 565-3336 by close of business Monday, July 8, 2013.

Cristopolis A. Dieguez,
Program Specialist, Office of the General Counsel.

[FR Doc. 2013-15702 Filed 6-26-13; 4:15 pm]

BILLING CODE 6690-01-P